DEPARTMENT OF ENERGY

Energy Information Administration

Agency Information Collection Activities: Proposed Collection; Comment Request

AGENCY: Energy Information Administration (EIA), Department of Energy (DOE).

ACTION: Agency information collection activities: proposed collection; comment request.

SUMMARY: The EIA is soliciting comments on the proposed three-year extension and revision to the Form EIA-28, “Financial Reporting System (FRS).”

DATES: Comments must be filed by June 8, 2009. If you anticipate difficulty in submitting comments within that period, contact the person listed below as soon as possible.

ADDRESSES: Send comments to Neal Davis of EIA. To ensure receipt of the comments by the due date, submission by fax (202-586-9753) or e-mail (neal.davis@eia.doe.gov) is recommended. Mr. Davis' mailing address is Energy Information Administration (EI 62), Financial Analysis Team, Forrestal Building, U.S. Department of Energy, 1000 Independence Avenue, SW., Washington, DC 20585. Alternatively, Mr. Davis may be contacted by telephone at (202) 586-6581.

FOR FURTHER INFORMATION CONTACT: Requests for additional information or copies of any forms and instructions for the Financial Reporting System should be directed to Mr. Davis at the address listed above.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. 3501, et seq.), provides the general public and other Federal agencies with opportunities to comment on collections of information conducted by or in conjunction with the EIA. Also, the EIA will later seek approval for this collection by the Office of Management and Budget (OMB) under Section 3507(a) of the Paperwork Reduction Act of 1995.

Under Public Law 95-91, section 205(h), the Administrator of the EIA is required to “identify and designate” the major energy companies who must annually file Form EIA-28 to ensure that the data collected provide “a statistically accurate profile of each line of commerce in the energy industry in the United States.” Data collected on Form EIA-28 are published and used in analyses of the energy industry.

U.S. major energy companies report financial and operating information to the FRS survey each year on a consolidated corporate level, by individual lines of business, by major functions within each line of business, and by various geographic regions. From this information, EIA produces the annual publication Performance Profiles of Major Energy Producers. The data are also used for analyses and inquiries concerning earnings, profitability, investments, production and refining costs, reserve growth, and other issues related to the financial performance of major energy producers.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

EIA is proposing a three-year extension with changes to the previously approved Form EIA-28 for the FRS survey to be conducted in 2010 collecting information for 2009.

EIA is proposing the following changes to the form:

• Expand the balance sheet information requested for property, plant, and equipment (PP&E), and investments and advances to unconsolidated affiliates beyond additions to include other changes, such as reclassifications and impairments;

• Reduce the scope of domestic information collected on the downstream natural gas and electric power operations of the major energy companies;

• Recategorize some downstream natural gas business operations to more closely align the survey with industry practices; and

• Add coverage of foreign operations for petroleum purchases and sales of raw materials and refined products, and for downstream natural gas operating expenses.

Schedule 5120 “Selected Consolidating Balance Sheet and Financial Data” will be expanded to include collection of other changes to PP&E and investments and advances to unconsolidated affiliates, by line of business.

Many of the questions for the downstream natural gas and electric power lines of business require detailed information from the operational units of the FRS respondent companies, and are more difficult to obtain. Data for several items are only provided by one or two companies. Consequently, the limited response severely restricts the usefulness of the data, and the analysis that can be done. Reducing the scope of the survey will also reduce the reporting burden on the survey respondents.

The proposed modifications include elimination of most of Schedules 5812 “Domestic Electric Power Segments, Purchases and Sales of Fuel and Electric Power” and 5841 “Electric Power Capacity and Output Statistics.” The following schedules for the downstream natural gas and electric power lines of business will be reduced in scope:

• Schedule 5710, Downstream Natural Gas, Consolidating Statement of Income,

• Schedule 5810, Electric Power, Consolidating Statement of Income, and

• Schedule 5811, Electric Power, General Operating Expense Detail.

The following schedules will be expanded to include foreign activities:

• Schedule 5211, Petroleum Segments, Refining/Marketing Operating Expense Detail,

• Schedule 5212, Petroleum Segments, Purchases and Sales of Raw Materials and Refined Products, and

• Schedule 5711, Downstream Natural Gas, General Operating Expense Detail.

Copies of the proposed new schedules and the instructions are available from Mr. Davis.

III. Request for Comments

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average 500 hours per response. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the form. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC, April 1, 2009.
Stephanie Brown,
Director, Statistics and Methods Group, Energy Information Administration.

[FR Doc. E9-7814 Filed 4-6-09; 8:45 am]

BILLING CODE 6450-01-P